DEPARTMENT OF THE INTERIOR

Bureau of Land Management

[CA-340-04-1610-DO]

Notice of Intent To Prepare a Resource Management Plan and Associated Environmental Impact Statement for the Ukiah Field Office

AGENCY: Bureau of Land Management, Interior.

ACTION: Notice of Intent.

SUMMARY: The Bureau of Land Management (BLM) Field Office in Ukiah, California, intends to prepare a Resource Management Plan (RMP) with an associated Environmental Impact Statement (EIS) for the public lands and resources under its jurisdiction. This notice initiates the public scoping process. Public scoping meetings, to identify relevant issues, will be announced in advance through BLM's Web site and in local news media.

DATES: Public meetings will be held throughout the planned scoping and preparation period. In order to ensure local community participation and input, open houses will be held in locations most closely affiliated with the public lands in the planning area. All public meetings will be announced through local news media, newsletters, and the BLM Web site http://www.ca.blm.gov/ukiah at least 15 days prior to the event.

ADDRESSES: You may submit comments by August 5, 2004 by any of the following methods:

• Web site: http://www.ca.blm.gov/ukiah

• Email: ca340@ca.blm.gov

• Fax: 707-468-4027

• Mail: 2550 N. State Street, Ukiah, CA 95482-3023

Documents pertinent to this proposal may be examined at the Ukiah Field Office, which is located at the mailing address listed above. Comments, including names and street addresses of respondents will be available for public review at the Ukiah Field Office during regular business hours, 7:45 a.m. to 4:30 p.m., Monday through Friday, excluding Federal holidays, and may be published as part of the EIS.

Individual respondents may request confidentiality. Individuals who wish to withhold their name or street address from public review or from disclosure under the Freedom of Information Act must state this prominently at the beginning of their written comment. Such requests will be honored to the extent allowed by law. All submissions from organizations and businesses, and from individuals identifying themselves as representatives or officials of organizations or businesses, will be available for public inspection in their entirety. BLM will not accept anonymous comments.

FOR FURTHER INFORMATION CONTACT: For further information and/or to have your name added to our mailing list, contact David Fatch, 2550 N. State St., Ukiah, CA 95482, (707) 468-4053; email dfatch@ca.blm.gov.

SUPPLEMENTARY INFORMATION: The geographic area includes the public land in the State of California within the counties of Marin, Solano, Sonoma, Mendocino (south of the city of Willits), Lake, Napa, Yolo, Colusa, Contra Costa, Sacramento, and Glenn. This planning activity encompasses approximately 300,000 surface acres and an additional 214,000 sub-surface (mineral estate) of public land. The plan will fulfill the needs and obligations set forth by the National Environmental Policy Act (NEPA), the Federal Land Policy and Management Act (FLPMA), and BLM management policies. The BLM will work collaboratively with interested parties to identify the management decisions that are best suited to local, regional, and national needs and concerns.

The purpose of the public scoping process is to determine relevant issues that will influence the scope of the environmental analysis and EIS alternatives. These issues also guide the planning process. Comments on issues and planning criteria can be submitted in writing to the BLM at any of the public scoping meetings, or they may be submitted to the BLM at the addresses listed above. To be most helpful, formal scoping comments should be submitted within 15 days after the last public meeting, although comments will be accepted throughout the creation of the Draft RMP/EIS. The minutes and list of attendees for each scoping meeting will be available to the public and open for 30 days after the meeting to any participant who wishes to clarify the views expressed. Individuals who provide written comments may request confidentiality. If you wish to withhold your name and/or address from public review or disclosure under the Freedom of Information Act, you must state this prominently at the beginning of your written comment. Such requests will be honored to the extent allowed by law. We will not, however, consider anonymous comments. All submissions from organizations or businesses, and from individuals identifying themselves as representatives or officials of organizations or businesses, are available for public inspection in their entirety.

The changing needs and interests of the public necessitate a revision to the land use plans covering the Ukiah Field Office area. Preliminary issues and management concerns have been identified by BLM personnel, other agencies, and in meetings with individuals and user groups. They are:

• Natural & Cultural Resources—How do we best protect and manage the natural and cultural resources on the public lands?

• Public Uses—How should public uses and activities be managed?

• Community Interlock—How do we integrate public land management with other agency and community plans?

An interdisciplinary approach will be used to develop the plan in order to consider the variety of resource issues and concerns identified. Disciplines involved in the planning process will include rangeland management, minerals and geology, recreation, archaeology, wildlife and fisheries, lands and realty, hydrology, soils, sociology and economics.

Dated: May 14, 2004.
Gary Sharpe,
Associate Field Manager, Ukiah Field Office.

[FR Doc. 04-13909 Filed 6-16-04; 11:08 am]

BILLING CODE 4310-40-P